ENVIRONMENTAL PROTECTION AGENCY

[OPP-66276; FRL-6552-8]

Notice of Receipt of Requests To Voluntary Cancel Certain Pesticide Registrations

AGENCY: Environmental Protection Agency (EPA).

ACTION: Notice.

SUMMARY: In accordance with section 6(f)(1) of the Federal Insecticide, Fungicide and Rodenticide Act (FIFRA), as amended, EPA is issuing a notice of receipt of requests by registrants to voluntarily cancel certain pesticide registrations.

DATES: Unless a request is withdrawn, the Agency will approve these use deletions and the deletions will become effective on October 23, 2000.

FOR FURTHER INFORMATION CONTACT: By mail: James A. Hollins, Office of Pesticide Programs (7502C), Environmental Protection Agency, Ariel Rios Building, 1200 Pennsylvania Ave., NW., Washington, DC 20460. Office location for commercial courier delivery, telephone number and e-mail address: Rm. 224, Crystal Mall #2, 1921 Jefferson Davis Highway, Arlington, VA 22202, telephone number: (703) 305-5761; e-mail: hollins.james@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations” and then look up the entry for this document under the “Federal Register—Environmental Documents.” You can also go directly to the Federal Register listings at (http://www.epa.gov/fedrgstr/).

2. In person. Contact James A. Hollins at 1921 Jefferson Davis Highway, Crystal Mall #2, Rm. 224, Arlington, VA., telephone number (703) 305-5761. Available from 7:30 a.m. to 4:45 p.m., Monday thru Friday, excluding legal holidays.

II. What Action Is the Agency Taking?

This notice announces receipt by the Agency of applications from registrants to cancel some 163 pesticide products registered under section 3 or 24 of FIFRA. These registrations are listed in sequence by registration number (or company number and 24 number) in the following Table 1.

Table 1.—Registrations With Pending Requests for Cancellation
Registration No. | Product name | Chemical name
000070-00179 | Kill-Ko Seed Treater | O,O-Diethyl O-(2-isopropyl-6-methyl-4-pyrimidinyl) phosphorothioate cis-N-Trichloromethylthio-4-cyclohexene-1,2-dicarboximide
000070-00190 | Kill-Ko Fruit Tree Spray | Methoxychlor (2,2-bis(p-methoxyphenyl)-1,1,1-trichloroethane) O,O-Dimethyl phosphorodithioate of diethyl mercaptosuccinate cis-N-Trichloromethylthio-4-cyclohexene-1,2-dicarboximide
000100 OR-98-0021 | Supracide 25WP Insecticide-Miticide | O,O-Dimethyl phosphorodithioate, S-ester with 4-(mercaptomethyl)-2-
000100 OR-99-0022 | Maxim - MZ Potato Seed Protectant | Gas cartidge (as a device for burrowing animal control) Zinc ion and manganese ethylenebisdithiocarbamate, coordination product 1H-Pyrrole-3-carbonitrile, 4-(2,2-difluoro-1,3-benzodioxol-4-yl)- (9CI)
000264 OR-81-0055 | Rovral Fungicide | 3-(3,5-Dichlorophenyl)-N-(1-methylethyl)-2,4-dioxo-1-imidazolidinecarboxamide
000264 WA-81-0052 | Rovral Fungicide | 3-(3,5-Dichlorophenyl)-N-(1-methylethyl)-2,4-dioxo-1-imidazolidinecarboxamide
000270-00053 | Farnam Ready-To-Use Stable & Horse Fly Spray | Pine oil
|  | 2,2-Dichlorovinyl dimethyl phosphate
000270-00284 | Security Brand Cygon* 2-E Systemic Insecticide | O,O-Dimethyl S-((methylcarbamoyl)methyl) phosphorodithioate
000270-00285 | Security Brand Fungi-Gard | Tetrachloroisophthalonitrile
000270-00287 | Security Brand Systemic Rose & Flower Booster | O,O-Diethyl S-(2-(ethylthio)ethyl) phosphorodithioate
000270-00291 | Security Brand Malathion Multi-Purpose Spray | O,O-Dimethyl phosphorodithioate of diethyl mercaptosuccinate
000270-00292 | Chacon Systemic Granular Insecticide for House Plants | O,O-Diethyl S-(2-(ethylthio)ethyl) phosphorodithioate
000352 OR-78-0004 | DuPont Lannate Methomyl Insecticide | S-Methyl N-((methylcarbamoyl) oxy)thioacetimidate
000352 TX-90-0008 | DuPont Asana XL Insecticide | 4-Chloro-alpha-(1-methylethyl)benzeneacetic acid, cyano(3-phenoxyphenyl)methyl
000400-00093 | Vitavax-300 Fungicide | cis-N-Trichloromethylthio-4-cyclohexene-1,2-dicarboximide
|  | 5,6-Dihydro-2-methyl-1,4-oxathiin-3-carboxanalide
000400-00136 | Vitavax-Captan HBM-25 | cis-N-Trichloromethylthio-4-cyclohexene-1,2-dicarboximide
|  | 5,6-Dihydro-2-methyl-1,4-oxathiin-3-carboxanalide
000400-00225 | Depester Soybean Seed Protectant | cis-N-Trichloromethylthio-4-cyclohexene-1,2-dicarboximide
000400 TX-78-0043 | Mathieson Terraclor 10% Granular | Pentachloronitrobenzene
000400 TX-79-0017 | Olin Terraclor 75% Wettable Powder | Pentachloronitrobenzene
000400 TX-84-0015 | Terraclor 2 Lb Emulsifiable Soil Fungicide | Pentachloronitrobenzene
000400 TX-94-0004 | Terraclor Flowable Fungicide | Pentachloronitrobenzene
000499-00210 | Whitmire PT 1300 | O,S-Dimethyl acetylphosphoramidothioate
000499-00272 | Whitmire PT 265a Knox Out Plus | O,O-Diethyl O-(2-isopropyl-6-methyl-4-pyrimidinyl) phosphorothioate (Butylcarbityl)(6-propylpiperonyl) ether 80% and related compounds 20% Pyrethrins
000527-00128 | Hydro-Cide Residual | O,O-Diethyl O-(3,5,6-trichloro-2-pyridyl) phosphorothioate (5-Benzyl-3-furyl)methyl 2,2-dimethyl-3-(2-methylpropenyl)cyclopropanecarboxylate
000707-00201 | Kelthane 4F Flowable Agricultural Miticide | 1,1-Bis(chlorophenyl)-2,2,2-trichloroethanol
000707 MS-99-0006 | Confirm 2F Agricultural Insecticide | Benzoic acid, 3,5-dimethyl-, 1-(1,1-dimethylethyl)-2-(4-ethylbenzoyl)hydrazide
000802-00537 | Lilly / Miller Whack Dust | Bendiocarb (2,2-dimethyl-1,3-benzoldioxol-4-yl methylcarbamate)
000829-00225 | SA-50 Brand Eptam Granules | S-Ethyl dipropylthiocarbamate
001100-00070 | Fungitrol 11 | N-((Trichloromethyl)thio))phthalimide
001100-00078 | Fungitrol 11-50 Dispersion | N-((Trichloromethyl)thio))phthalimide
001203-00069 | Foremost 4891-ES Fly-Kill | S-Methyl N-((methylcarbamoyl)oxy) thioacetimidate (Z)-9-Tricosene
001304-00063 | McNess Rabon 7.76 Oral Larvicide Premix Cattle and Swin | 2-Chloro-1-(2,4,5-trichlorophenyl)vinyl dimethyl phosphate
001304-00066 | McNess Stock Cow Vitamin & Mineral Mix with Rabon | 2-Chloro-1-(2,4,5-trichlorophenyl)vinyl dimethyl phosphate
001304-00068 | McNess Stock Cow Vitamin & Mineral Mix with Magnesium A | 2-Chloro-1-(2,4,5-trichlorophenyl)vinyl dimethyl phosphate
001685-00094 | State Formula 401 Ready Kill with Dursban | O,O-Diethyl O-(3,5,6-trichloro-2-pyridyl) phosphorothioate (5-Benzyl-3-furyl)methyl 2,2-dimethyl-3-(2-methylpropenyl)cyclopropanecarboxylate
001812 WA-95-0025 | Kocide DF | Copper hydroxide
001812 WA-97-0035 | Super Tin 80WP | Triphenyltin hydroxide
002217-00038 | PCS Pyrenone Emulsion Concentrate | (Butylcarbityl)(6-propylpiperonyl) ether 80% and related compounds 20% Pyrethrins
002217-00143 | 57% Malathion Emulsifiable Concentrate | O,O-Dimethyl phosphorodithioate of diethyl mercaptosuccinate
002217-00282 | New DDVP Fly Bait | 2,2-Dichlorovinyl dimethyl phosphate
002217-00345 | 50% Malathion Emulsifiable Concentrate | O,O-Dimethyl phosphorodithioate of diethyl mercaptosuccinate
002217-00355 | 50% Malathion Garden Spray | O,O-Dimethyl phosphorodithioate of diethyl mercaptosuccinate
002217-00366 | Sevin 50W Insecticide | 1-Naphthyl-N-methylcarbamate
002217-00383 | Sevin Dust 5% | 1-Naphthyl-N-methylcarbamate
002217-00389 | Gordon Chemicals Sevin 50W Spray A Wettable Powder | 1-Naphthyl-N-methylcarbamate
002217-00450 | Vapona Show-Coat Dairy Cattle Spray | 2,2-Dichlorovinyl dimethyl phosphate
002217-00470 | Alfa-Spray | Methoxychlor (2,2-bis(p-methoxyphenyl)-1,1,1-trichloroethane) O,O-Dimethyl phosphorodithioate of diethyl mercaptosuccinate
002217-00572 | Gordon's Sevin Dust 5% A Multi-Purpose Insecticide | 1-Naphthyl-N-methylcarbamate
002217-00600 | Liquid Sevin Spray | 1-Naphthyl-N-methylcarbamate
002217-00638 | Gordon's Diazinon 25% Emulsifiable | O,O-Diethyl O-(2-isopropyl-6-methyl-4-pyrimidinyl) phosphorothioate
002217-00664 | Spreader King Dursban Lawn Insecticide | O,O-Diethyl O-(3,5,6-trichloro-2-pyridyl) phosphorothioate
002217-00777 | Pre-San Emulsifiable | S-(O,O-Diisopropyl phosphorodithioate) ester of N-(2-mercaptoethyl)benzenesulfonamide
002935-00084 | Red-Top Malathion 25 Spray Powder | O,O-Dimethyl phosphorodithioate of diethyl mercaptosuccinate
002935-00284 | Dibrom 8 Spray | 1,2-Dibromo-2,2-dichloroethyl dimethyl phosphate
002935-00431 | Diazinon 50W | O,O-Diethyl O-(2-isopropyl-6-methyl-4-pyrimidinyl) phosphorothioate
002935-00435 | Wilbur Ellis Systemic 10G | O,O-Diethyl S-(2-(ethylthio)ethyl) phosphorodithioate
002935-00517 | Cygon 2-E Systemic Insecticide-Miticide | O,O-Dimethyl S-((methylcarbamoyl)methyl) phosphorodithioate
002935-00518 | Cygon 267 Systemic Insecticide-Miticide | O,O-Dimethyl S-((methylcarbamoyl)methyl) phosphorodithioate
002935-00519 | Cygon Systemic 25 Insecticide-Miticide | O,O-Dimethyl S-((methylcarbamoyl)methyl) phosphorodithioate
002935 OR-97-0001 | Cygon 400 Systemic Insecticide-Miticide | O,O-Dimethyl S-((methylcarbamoyl)methyl) phosphorodithioate
002935 WA-88-0025 | Dimethogon 267 EC | O,O-Dimethyl S-((methylcarbamoyl)methyl) phosphorodithioate
003125-00126 | Di-Syston Systemic | O,O-Diethyl S-(2-(ethylthio)ethyl) phosphorodithioate
003125-00176 | Baygon Household Insect Residual Spray (Pressurized) | o-Isopropoxyphenyl methylcarbamate
003125-00177 | Baygon Household Insect Spray | o-Isopropoxyphenyl methylcarbamate
003125-00262 | Baygon 1% Household Insect Residual Spray (Pressurized) | o-Isopropoxyphenyl methylcarbamate
003125-00344 | Baygon 0.5% Aqueous Insecticide | o-Isopropoxyphenyl methylcarbamate
003125-00345 | Baygon 0.5% Aqueous Pressurized Insect Spray | o-Isopropoxyphenyl methylcarbamate
003125 ID-83-0035 | Di-Syston 15% Granular Systemic Insecticide | O,O-Diethyl S-(2-(ethylthio)ethyl) phosphorodithioate
003125 OR-79-0042 | Di-Syston 15% Granular Systemic Insecticide | O,O-Diethyl S-(2-(ethylthio)ethyl) phosphorodithioate
003125 OR-83-0057 | Di-Syston 15% Granular Systemic Insecticide | O,O-Diethyl S-(2-(ethylthio)ethyl) phosphorodithioate
004691-00114 | Anchor Insecticidal Ear Tags | O,O-Diethyl O-(3,5,6-trichloro-2-pyridyl) phosphorothioate (Butylcarbityl)(6-propylpiperonyl) ether 80% and related compounds 20% Cyclopropanecarboxylic acid, 3-(2,2-dichloroethenyl)-2,2-dimethyl-,
004691-00126 | Flea Collar for Dogs | 2,2-Dichlorovinyl dimethyl phosphate
004691-00127 | Flea Collar for Cats | 2,2-Dichlorovinyl dimethyl phosphate
004822-00309 | Raid Yard Guard Outdoor Fogger Formula V | d-cis-trans-Allethrin 2-Hydroxyethyl octyl sulfide Cyclopropanecarboxylic acid, 3-(2,2-dichloroethenyl)-2,2-dimethyl-,
005887-00094 | Slug & Snail Killer | 2,4,6,8-Tetramethyl-1,3,5,7-tetroxocane
|  | 1-Naphthyl-N-methylcarbamate
005905-00252 | Helena 70-3 Seed Protectant | Methoxychlor (2,2-bis(p-methoxyphenyl)-1,1,1-trichloroethane)
|  | cis-N-Trichloromethylthio-4-cyclohexene-1,2-dicarboximide
007001-00329 | Turf Disease Control 5% Granular | Tetrachloroisophthalonitrile
007173 MT-91-0001 | Rozol Treated Oats for Controlling Ground Squirrels | 2-((p-Chlorophenyl)phenylacetyl)-1,3-indandione
007173 UT-77-0002 | Rozol Ground Squirrel Grain Bait | 2-((p-Chlorophenyl)phenylacetyl)-1,3-indandione
007501-00008 | Gustafson Captan 300 Seed Protectant Agricultural Fungicide | cis-N-Trichloromethylthio-4-cyclohexene-1,2-dicarboximide
007501-00077 | Evershield C Captan Seed Protectant | cis-N-Trichloromethylthio-4-cyclohexene-1,2-dicarboximide
007501-00092 | Gustafson Captan 75% Seed Protectant | cis-N-Trichloromethylthio-4-cyclohexene-1,2-dicarboximide
007501-00111 | Gustafson 4-Way Seed Protectant | Manganese ethylenebis(dithiocarbamate)
|  | Pentachloronitrobenzene
|  | cis-N-Trichloromethylthio-4-cyclohexene-1,2-dicarboximide
|  | 5-Ethoxy-3-(trichloromethyl)-1,2,4-thiadiazole
007501-00116 | Capt'n Moly | cis-N-Trichloromethylthio-4-cyclohexene-1,2-dicarboximide
007501-00129 | Gustafson Captan T Flowable Systemic Soybean Seed Treat | 2-(4'-Thiazolyl)benzimidazole
|  | cis-N-Trichloromethylthio-4-cyclohexene-1,2-dicarboximide
007501-00130 | Gustafson Captan T Flowable Systemic Soybean Seed Treat | 2-(4'-Thiazolyl)benzimidazole
|  | cis-N-Trichloromethylthio-4-cyclohexene-1,2-dicarboximide
007501-00150 | Baytan Captan HB Fungicide | cis-N-Trichloromethylthio-4-cyclohexene-1,2-dicarboximide
|  | beta-(4-Chlorophenoxy)-alpha-(1,1-dimethylethyl)-1H-1,2,4-triazole-1-ethanol
007501-00153 | 4-Way Peanut Seed Protectant Fungicide | Manganese ethylenebis(dithiocarbamate)
|  | Pentachloronitrobenzene
|  | cis-N-Trichloromethylthio-4-cyclohexene-1,2-dicarboximide
|  | 5-Ethoxy-3-(trichloromethyl)-1,2,4-thiadiazole
007501 ID-81-0010 | Treat & Grow Sjl Seed Protectantcaptan 30% | cis-N-Trichloromethylthio-4-cyclohexene-1,2-dicarboximide
007501 MN-79-0011 | Treat & Grow Sjl Seed Protectantcaptan 30% | cis-N-Trichloromethylthio-4-cyclohexene-1,2-dicarboximide
007501 TX-91-0007 | Tops PC Peanut Seed Treatment | Pentachloronitrobenzene
|  | cis-N-Trichloromethylthio-4-cyclohexene-1,2-dicarboximide
|  | Dimethyl ((1,2-phenylene) bis (iminocarbonothioyl)) bis (carbamate)
007501 WA-80-0035 | Treat & Grow SJL Seed Protectantcaptan 30% | cis-N-Trichloromethylthio-4-cyclohexene-1,2-dicarboximide
007969 SC-90-0005 | Ronilan Fungicide 50W | 3-(3,5-Dichlorophenyl)-5-ethenyl-5-methyl-2,4-oxazolidinedione
008177-00032 | Solid tone Oil Wood Stain Preservative | N-((Trichloromethyl)thio)phthalimide
|  | Bis(tributyltin) oxide
008177-00036 | Valspar Semi-Transparent Oil Stain & Preservative-6515 | N-((Trichloromethyl)thio)phthalimide
|  | Bis(tributyltin) oxide
008660-00015 | Turf Insect Control W/fertilizer | 1-Methylethyl 2-((ethoxy((1-methylethyl) amino)phosphinothioyl) oxy)benzoate
008660-00131 | Grub Pruf contains 1.5% Oftanol Insecticide Granules | 1-Methylethyl 2-((ethoxy((1methylethyl) amino)phosphinothioyl) oxy)benzoate
008660-00137 | Vertagreen Grub-Pruf-Plus T.M. | 1-Methylethyl 2- ((ethoxy((1-methylethyl)amino) phosphinothioyl) oxy)benzoate
008660-00142 | VG Lawn Food Plus Oftanol Insecticide | 1-Methylethyl 2- ((ethoxy((1-methylethyl)amino) phosphinothioyl) oxy)benzoate
008660-00180 | Green Turf 1.5% Oftanol Insecticide | 1-Methylethyl 2- ((ethoxy((1-methylethyl)amino) phosphinothioyl)oxy) benzoate
008660-00181 | Green Turf Lawn Food W/1.25% Oftanol Insecticide | 1-Methylethyl 2-((ethoxy ((1-methylethyl)amino) phosphinothioyl) oxy)benzoate
009250-00030 | United 481 Ground Zero | O,O-Diethyl O-(3,5,6-trichloro-2-pyridyl) phosphorothioate
|  | (5-Benzyl-3-furyl)methyl 2,2-dimethyl-3- (2-methylpropenyl) cyclopropanecarboxylate
009779-00098 | Riverside Gro-Bean | cis-N -Trichloromethylthio-4- cyclohexene-1,2-dicarboximide
009779 OR-98-0004 | Chlorothalonil 90 DF | Tetrachloroisophthalonitrile
009779 OR-98-0005 | Terranil 6L | Tetrachloroisophthalonitrile
010088-00087 | Banish Residual Insect Spray | 2-Methyl-4-oxo-3-(2-propenyl)-2-cyclopenten-1-yl d-trans-2,2-dimethyl-
|  | N-Octyl bicycloheptene dicarboximide
|  | O,O-Diethyl O-(3,5,6-trichloro-2-pyridyl) phosphorothioate
|  | (Butylcarbityl)(6-propylpiperonyl) ether 80% and related compounds 20%
010107-00094 | Seed Shield Potato Seed Treater | Streptomycin sulfate
|  | cis-N-Trichloromethylthio-4-cyclohexene-1,2-dicarboximide
010107-00097 | Seed Shield Potato Seed Treater No. 7.5 with Bark | cis-N-Trichloromethylthio-4-cyclohexene-1,2-dicarboximide
010163 OR-94-0022 | Botran 75 W | 2,6-Dichloro-4-nitroaniline
010163 OR-96-0043 | Botran 5F | 2,6-Dichloro-4-nitroaniline
010182-00171 | Ordram 6E | S-Ethyl hexahydro-1H-azepine-1-carbothioate
010182-00174 | Ordram 10-G | S-Ethyl hexahydro-1H-azepine-1-carbothioate
010182-00294 | Chevron Folpet Technical | N-((Trichloromethyl)thio)phthalimide
010350-00038 | Duratrol Plus Household Flea Spray with Nylar | 2-Methyl-4-oxo-3-(2-propenyl)-2-cyclopenten-1-yl d-trans-2,2-dimethyl-
|  | O,O-Diethyl O-(3,5,6-trichloro-2-pyridyl) phosphorothioate
|  | 2-(1-Methyl-2-(4-phenoxyphenoxy)ethoxy)pyridine
019713-00197 | Drexel Soygro | cis-N-Trichloromethylthio-4-cyclohexene-1,2-dicarboximide
033912-00002 | Wagnol 40 57% Malathion Lawn and Ornamental Garden Spray | O,O-Dimethyl phosphorodithioate of diethyl mercaptosuccinate
033955-00408 | Acme Fruit Tree Spray | Methoxychlor (2,2-bis(p-methoxyphenyl)-1,1,1-trichloroethane)
|  | O,O-Dimethyl phosphorodithioate of diethyl mercaptosuccinate
|  | cis-N-Trichloromethylthio-4-cyclohexene-1,2-dicarboximide
033955-00450 | Acme Sevin 50 W | 1-Naphthyl-N-methylcarbamate
033955-00537 | Acme Chinchbug Spray | O,O-Diethyl O-(3,5,6-trichloro-2-pyridyl) phosphorothioate
|  | Xylene range aromatic solvent
033955-00541 | Acme Dursban Granular Insecticide | O,O-Diethyl O-(3,5,6-trichloro-2-pyridyl) phosphorothioate
033955-00544 | Acme Diazinon Granules Lawn Insect Control | O,O-Diethyl O-(2-isopropyl-6-methyl-4-pyrimidinyl) phosphorothioate
033955-00546 | Acme Ant Granules contains Diazinon Insecticide | O,O-Diethyl O-(2-isopropyl-6-methyl-4-pyrimidinyl) phosphorothioate
033955-00548 | Acme Dursban Insecticide 8.70% | O,O-Diethyl O-(3,5,6-trichloro-2-pyridyl) phosphorothioate
033955-00554 | Acme Stopit Crabgrass Preventer | S-(O,O-Diisopropyl phosphorodithioate) ester of N-(2-mercaptoethyl)benzenesulfonamide
034704-00149 | Captan 7.5 Dust | cis-N-Trichloromethylthio-4-cyclohexene-1,2-dicarboximide
034704-00342 | Captan 10 Dust | cis-N-Trichloromethylthio-4-cyclohexene-1,2-dicarboximide
034704-00567 | Hopkins 25% Captan Seed Protectant | cis-N-Trichloromethylthio-4-cyclohexene-1,2-dicarboximide
034704-00649 | Captan 300 Flowable Seed Protectant | cis-N-Trichloromethylthio-4-cyclohexene-1,2-dicarboximide
034704-00650 | Captan-Methoxychlor 300-20 Undyed Flowable Seed Protect | Methoxychlor (2,2-bis(p-methoxyphenyl)-1,1,1-trichloroethane)
|  | cis-N-Trichloromethylthio-4-cyclohexene-1,2-dicarboximide
034704-00651 | Captan 70-WP Seed Protectant | cis-N-Trichloromethylthio-4-cyclohexene-1,2-dicarboximide
034704-00652 | Captan-Methoxychlor 75-3 WP Seed Protectant | Methoxychlor (2,2-bis(p-methoxyphenyl)-1,1,1-trichloroethane)
|  | cis-N-Trichloromethylthio-4-cyclohexene-1,2-dicarboximide
034704-00655 | Captan 300-DD Flowable Seed Protectant | cis-N-Trichloromethylthio-4-cyclohexene-1,2-dicarboximide
034704-00659 | Captan 300 Undyed Flowable Seed Protectant | cis-N-Trichloromethylthio-4-cyclohexene-1,2-dicarboximide
034704-00668 | Potato Seed Treater | cis-N-Trichloromethylthio-4-cyclohexene-1,2-dicarboximide
034704-00681 | Captan 15% Potato Seed Treater | cis-N-Trichloromethylthio-4-cyclohexene-1,2-dicarboximide
034704-00760 | Fruit Tree Spray | Methoxychlor (2,2-bis(p-methoxyphenyl)-1,1,1-trichloroethane)
|  | O,O-Dimethyl phosphorodithioate of diethyl mercaptosuccinate
|  | cis-N-Trichloromethylthio-4-cyclohexene-1,2-dicarboximide
042056-00001 | Triple Noctin | cis-N-Trichloromethylthio-4-cyclohexene-1,2-dicarboximide
050534 NY-95-0005 | Bravo 720 | Tetrachloroisophthalonitrile
051036 WA-95-0032 | Endosulfan 3 EC | 6,7,8,9,10-Hexachloro-1,5,5α,6,9,9α-hexahydro-6,9-methano-2,4,3-benzodioxathiepin-3-oxide
059144-00018 | Lawn and Garden Fungicide | Tetrachloroisophthalonitrile
062719-00325 | Pendimax 3.3 | N-(1-Ethylpropyl)-3,4-dimethyl-2,6-dinitrobenzenamine
062719-00326 | Technical Pendimethalin | N-(1-Ethylpropyl)-3,4-dimethyl-2,6-dinitrobenzenamine
062719 WA-95-0045 | Transline | 3,6-Dichloro-2-pyridinecarboxylic acid, alkanolamine salts (of ethanol and
064240-00010 | Combat Roach Control System Formula 18984 | Tetrahydro-5,5-dimethyl-2(1H)-pyrimidinone, (3-(4-(trifluoromethyl)
065135 WA-91-0026 | Vinco Formaldehyde Solution | Formaldehyde
066330-00001 | Captan 75 Seed Protectant | cis-N-Trichloromethylthio-4-cyclohexene-1,2-dicarboximide
066330-00002 | Stauffer Captan 65 Seed Protectant | cis-N-Trichloromethylthio-4-cyclohexene-1,2-dicarboximide
066330-00004 | Captan-Methoxychlor 75-5 Seed Protectant | Methoxychlor (2,2-bis(p-methoxyphenyl)-1,1,1-trichloroethane)
|  | cis-N-Trichloromethylthio-4-cyclohexene-1,2-dicarboximide
066330-00005 | Captan Sprills Seed Protectant Fungicide | cis-N-Trichloromethylthio-4-cyclohexene-1,2-dicarboximide
066330-00006 | Captan Methoxychlor 75-3 Seed Protectant | Methoxychlor (2,2-bis(p-methoxyphenyl)-1,1,1-trichloroethane)
|  | cis-N-Trichloromethylthio-4-cyclohexene-1,2-dicarboximide
066330-00007 | Captan Methoxychlor Seed Protectant | Methoxychlor (2,2-bis(p-methoxyphenyl)-1,1,1-trichloroethane)
|  | cis-N-Trichloromethylthio-4-cyclohexene-1,2-dicarboximide
066330-00008 | Captan Methoxychlor 65-10 Seed Protectant | Methoxychlor (2,2-bis(p-methoxyphenyl)-1,1,1-trichloroethane)
|  | cis-N-Trichloromethylthio-4-cyclohexene-1,2-dicarboximide
066330-00010 | Captan 10 Dust | cis-N-Trichloromethylthio-4-cyclohexene-1,2-dicarboximide
066330-00012 | Captan Moly Soybean Seed Protectant with Molybdenum | cis-N-Trichloromethylthio-4-cyclohexene-1,2-dicarboximide
066330-00013 | Captan 75 Seed Protectant Dust (fungicide) | cis-N-Trichloromethylthio-4-cyclohexene-1,2-dicarboximide
066330-00016 | Captan 7.5 Dust Fungicide | cis-N-Trichloromethylthio-4-cyclohexene-1,2-dicarboximide
066330-00023 | Captan 4 Flowable | cis-N-Trichloromethylthio-4-cyclohexene-1,2-dicarboximide
066330-00033 | Chevron Captan Technical | cis-N-Trichloromethylthio-4-cyclohexene-1,2-dicarboximide
068119-00010 | Agrox 2-Way | O,O-Diethyl O-(2-isopropyl-6-methyl-4-pyrimidinyl) phosphorothioate
|  | cis-N-Trichloromethylthio-4-cyclohexene-1,2-dicarboximide
068119-00019 | Actellic 5E Insecticide | O-(2-(Diethylamino)-6-methyl-4-pyrimidinyl) O,O-dimethyl phosphorothioate
071949-00002 | Diazinon 25% | O,O-Diethyl O-(2-isopropyl-6-methyl-4-pyrimidinyl) phosphorothioate
071949-00003 | Ford's Diazinon 5 Granules | O,O-Diethyl O-(2-isopropyl-6-methyl-4-pyrimidinyl) phosphorothioate
071949-00014 | Best 50% Malathion Insect Spray | O,O-Dimethyl phosphorodithioate of diethyl mercaptosuccinate

Unless a request is withdrawn by the registrant within 180 days (30 days when requested by registrant) of publication of this notice, orders will be issued canceling all of these registrations. Users of these pesticides or anyone else desiring the retention of a registration should contact the applicable registrant during this comment period.

The following Table 2, includes the names and addresses of record for all registrants of the products in Table 1, in sequence by EPA company number.

Table 2. — Registrants Requesting Voluntary Cancellation
EPA company No. | Company name and address
000070 | Verdant Brands, Inc., Agent For: Verdant Brands, Inc., 213 S.W. Columbia St., Bend, OR 97702.
000100 | Novartis Crop Protection, Inc., Box 18300, Greensboro, NC 27419.
000264 | Rhone-Poulenc Ag Co., Box 12014, Research Triangle Park, NC 27709.
000270 | Farnam Companies Inc., 301 W. Osborn Rd., Phoenix, AZ 85013.
000352 | E. I. Du Pont De Nemours & Co., Inc., Barley Mill Plaza, Walker's Mill, Wilmington, DE 19880.
000400 | Uniroyal Chemical Co., Inc., 74 Amity Rd, Bethany, CT 06524.
000499 | Whitmire Micro-Gen Research Laboratories Inc., 3568 Tree Ct Industrial Blvd, St Louis, MO 63122.
000527 | Rochester Midland, 333 Hollenbeck Street Box 1515, Rochester, NY 14603.
000707 | Rohm & Haas Co., Attn: Robert H. Larkin, 100 Independence Mall W., Philadelphia, PA 19106.
000802 | The Garden Grow Co., 6500 Hanna Rd., Box 100, Independence, OR 97351.
000829 | Southern Agricultural Insecticides, Inc., Box 218, Palmetto, FL 34220.
001100 | Creanova Inc., Turner Place Box 365, Piscataway, NJ 08855.
001203 | Delta Foremost Chemical Corp., 3915 Air Park St., Memphis, TN 38118.
001304 | Furst McNess Co., 120 E. Clark St., Freeport, IL 61032.
001685 | The State Chemical Mfg. Co., 3100 Hamilton Ave, Cleveland, OH 44114.
001812 | Griffin L.L.C., Box 1847, Valdosta, GA 31603.
002217 | PBI/Gordon Corp., Attn: Craig Martens, Box 014090, Kansas City, MO 64101.
002935 | Wilbur Ellis Co., 191 W. Shaw Ave, #107, Fresno, CA 93704.
003125 | Bayer Corp., Agriculture Division, 8400 Hawthorn Rd., Box 4913, Kansas City, MO 64120.
004691 | Boehringer Ingelheim Vetmedica, Inc., 2621 North Belt Highway, St Joseph, MO 64506.
004822 | Kelly K. Rahn, Agent For: S.C. Johnson & Son, Inc., 1525 Howe Street, Racine, WI 53403.
005887 | Verdant Brands, Inc., Agent For: Verdant Brands, Inc., 213 S.W. Columbia St., Bend, OR 97702.
005905 | Helena Chemical Co., 6075 Poplar Ave., Suite 500, Memphis, TN 38119.
007001 | J.R. Simplot Co., Box 198, Lathrop, CA 95330.
007173 | Liphatech, Inc., 3101 W. Custer Ave, Milwaukee, WI 53209.
007501 | Gustafson LLC, 1400 Preston Rd., Suite 400, Planos, TX 75093.
007969 | BASF Corp., Agricultural Products, Box 13528, Research Triangle Park, NC 27709.
008177 | Valspar Corp., 1101 Third St. South, Minneapolis, MN 55415.
008660 | Pursell Industries, Inc., Box 540, Sylacauga, AL 35150.
009250 | United Laboratories, Inc., 320 37th Ave., St. Charles, IL 60174.
009779 | Cenex/Land-O-Lakes Agronomy Co., 5600 Cenex Drive, Box 64089, Inver Grove Heights, MN 55164.
010088 | Athea Laboratories Inc., Box 240014, Milwaukee, WI 53224.
010107 | Van Diest Supply Co., 1434 220th Street Box 610, Webster City, IA 50595.
010163 | Gowan Co., Box 5569, Yuma, AZ 85366.
010182 | Zeneca Ag Products, Box 15458, Wilmington, DE 19850.
010350 | 3M/Animal Care Products, Attn: Susan M. Price, Corp. Product Resp., 3M Center, Bldg 290-04-01, St. Paul, MN 55144.
019713 | Drexel Chemical Co., 1700 Channel Ave., Box 13327, Memphis, TN 38113.
033912 | Wagnol Inc., 541 Oak Street St., Mandeville, LA 70448.
033955 | PBI/Gordon Corp., Attn: Craig Martens, Box 014090, Kansas City, MO 64101.
034704 | Jane Cogswell, Agent For: Platte Chemical Co., Inc., Box 667, Greeley, CO 80632.
042056 | Trace Chemicals LLC, 839 Brenkman Dr., Pekin, IL 61554.
050534 | GB Biosciences Corp., c/o Zeneca Ag Products, 1800 Concord Pike, Box 15458, Wilmington, DE 19850.
051036 | Micro-Flo Co., Box 772099, Memphis, TN 38117.
059144 | Gro Tec Inc., Box 290, Madison, GA 30650.
062719 | Dow Agrosciences LLC, 9330 Zionsville Rd 308/3E, Indianapolis, IN 46268.
064240 | Combat Insect Control Systems, c/o PS & RC, Box 493, Pleasanton, CA 94566.
065135 | Lefeber Bulb Co., Inc., 15379 State Route 536, Mount Vernon, WA 98273.
066330 | Tomen Agro Inc., 100 First Street, Suite 1610, San Francisco, CA 94105.
068119 | Wilfarm L.L.C., Attn: Kent Kutnink, 5401 N. Oak Trafficway, Gladstone, MO 64118.
071949 | OMS Investments, Inc., c/o Delaware Corporate Management, 1105 N. Market Street, Wilmington, DE 19899.

III. What is the Agency's Authority for Taking This Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. Procedures for Withdrawal of Request

Registrants who choose to withdraw a request for cancellation must submit such withdrawal in writing to James A. Hollins, at the address given above, postmarked before October 23, 2000. This written withdrawal of the request for cancellation will apply only to the applicable 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received by the Agency. This policy is in accordance with the Agency's statement of policy as prescribed in Federal Register (56 FR 29362) June 26, 1991; [FRL 3846-4]. Exception to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold or used legally until they are exhausted, provided that such further sale and use comply with the EPA-approved label and labeling of the affected product(s). Exceptions to these general rules will be made in specific cases when more stringent restrictions on sale, distribution, or use of the products or their ingredients have already been imposed, as in Special Review actions, or where the Agency has identified significant potential risk concerns associated with a particular chemical.

List of Subjects

Environmental protection, Pesticides and pests, Product registrations.

Dated: April 5, 2000.
Richard D. Schmitt,
Acting Director, Information Resources Services Division, Office of Pesticide Programs.

[FR Doc. 00-10188 Filed 4-25-00; 8:45 am]

BILLING CODE 6560-50-F